DEPARTMENT OF THE TREASURY

Submission for OMB Review; Comment Request

April 3, 2003.

The Department of the Treasury has submitted the following public information collection requirement(s) to OMB for review and clearance under the Paperwork Reduction Act of 1995, Pubic Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 12, 2003 to be assured of consideration.

Internal Revenue Service (IRS)

OMB Number: 1545-1233.

Regulation Project Number: IA-14-91 Final.

Type of Review: Extension.

Title: Adjusted Current Earnings.

Description: This regulation affects business and other for-profit institutions. This information is required by the IRS to ensure the proper application of section 1.56(g)-1 of the regulation. It will be used to verify that taxpayers have properly elected the benefits of section 1.56(g)-1® of the regulation.

Respondents: Business or other for-profit.

Estimated Number of Respondents: 1,000.

Estimated Burden Hours Per Respondent: 1 hour.

Estimated Total Reporting/Recordkeeping Burden: 1,000 hours.

OMB Number: 1545-1380.

Regulation Project Number: IA-17-90 Final.

Type of Review: Extension.

Title: Reporting Requirements for Recipients of Points Paid on Residential Mortgages.

Description: To encourage compliance with the tax laws relating to the mortgage interest deduction, the regulations require the reporting on Form 1098 of points paid on residential mortgages. Only businesses that receive mortgage interest in the course of a trade or business are affected by this requirement.

Respondents: Business or other for-profit.

Estimated Number of Respondents/Recordkeepers: 37,644.

Estimated Burden Hours per Respondent/Recordkeeper: 7 hours, 31 minutes.

Frequency of Response: Annually.

Estimated Total Reporting/Recordkeeping Burden: 283,056 hours.

OMB Number: 1545-1431.

Regulation Project Number: IA-74-93 Final.

Type of Review: Extension.

Title: Substantiation Requirement for Certain Contributions.

Description: These regulations provide that, for purposes of substantiation for certain charitable contributions, consideration does not include de minimis goods or services. It also provides guidance on how taxpayers may satisfy the substantiation requirement for contributions of $250 or more.

Respondents: Business or other for-profit, Individuals or households, not-for-profit institutions.

Estimated Number of Respondents: 16,000.

Estimated Burden Hours per Respondent: 3 hours, 13 minutes.

Frequency of Response: On occasion.

Estimated Total Reporting Burden: 51,500 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Departmental Reports Management Officer.

[FR Doc. 03-8864 Filed 4-10-03; 8:45 am]

BILLING CODE 4830-01-P